DEPARTMENT OF ENERGY

Federal Energy Regulatory Commission

[Docket No. CP21-465-000, CP21-465-001, CP21-465-002]

Driftwood Pipeline LLC; Notice of Availability of the Final Environmental Impact Statement for the Proposed Line 200 and Line 300 Project

The staff of the Federal Energy Regulatory Commission (FERC or Commission) has prepared a final environmental impact statement (EIS) for the Line 200 and Line 300 Project (Project), proposed by Driftwood Pipeline LLC (Driftwood) in the above-referenced docket. Driftwood proposes to construct and operate dual 42-inch-diameter natural gas pipelines originating near Ragley in Beauregard Parish, Louisiana southward to a proposed receiver facility near Carlyss in Calcasieu Parish, Louisiana. Additional facilities include one new compressor station, eleven meter stations, six mainline valves, and other aboveground facilities. The Project would provide a maximum seasonal capacity of 5.7 billion cubic feet of natural gas per day to the Lake Charles market. According to Driftwood, its Project would provide enhanced supply access, resilience, and reliability to the natural gas market in the Lake Charles area.

The final EIS assesses the potential environmental effects of the construction and operation of the Project in accordance with the requirements of the National Environmental Policy Act (NEPA). The FERC staff concludes that approval of the proposed Project, with the mitigation measures recommended in the EIS, would result in some adverse environmental impacts, but none that are considered significant. Regarding climate change impacts, the Project's construction and operation emissions would increase the atmospheric concentration of greenhouse gasses (GHG), in combination with past, present, and future emissions from all other sources. This EIS is not characterizing the Project's GHG emissions as significant or insignificant because the Commission is conducting a generic proceeding to determine whether and how the Commission will conduct significance determinations going forward.¹ The EIS also concludes that no system, route, or other alternative would meet the Project objective while providing a significant environmental advantage over the Project as proposed.

¹ Consideration of Greenhouse Gas Emissions in Natural Gas Infrastructure Project Reviews, 178 FERC ¶ 61,108 (2022); 178 FERC 61,197 (2022).

The U.S. Environmental Protection Agency participated as a cooperating agency in the preparation of the EIS. Cooperating agencies have jurisdiction by law or special expertise with respect to resources potentially affected by the proposal and participate in the NEPA analysis.

The final EIS addresses the potential environmental effects of the construction and operation of the following project facilities:

• approximately 36.9 miles of 42-inch-diameter pipeline in Beauregard and Calcasieu Parishes, Louisiana (Line 200);

• approximately 32.4 miles of 42-inch-diameter pipeline in Beauregard and Calcasieu Parishes, Louisiana (Line 300) that would be constructed adjacent to Line 200 in a second phase of construction;

• approximately 0.9 mile of 30-inch-diameter lateral (Sempra Lateral) extending from Meter Station 14 to the Indian Bayou Compressor Station;

• approximately 0.8 mile of 30-inch-diameter lateral (Transco Lateral) extending from Meter Station 5 to the Indian Bayou Compressor Station;

• approximately 850 feet of dual 42-inch-diameter pipelines connecting the receiver facility to Meter Station 12;

• new compressor station identified as the Indian Bayou Compressor Station with a total 211,200 horsepower (hp) in Beauregard Parish, Louisiana;

• new receiver facility at the terminus of the Line 200 and Line 300 in Calcasieu Parish, Louisiana;

• 11 new meter stations and interconnects in Beauregard and Calcasieu Parishes, Louisiana;

• 6 mainline valves (MLV) within 3 valve facilities; and

• additional ancillary facilities such as communication facilities and pig launchers ² and receivers.

² A “pig” is a tool that the pipeline company inserts into and pushes through the pipeline for cleaning the pipeline, conducting internal inspections, or other purposes.

The Commission mailed a copy of the Notice of Availability to federal, state, and local government representatives and agencies; elected officials; environmental and public interest groups; Native American tribes; potentially affected landowners and other interested individuals and groups; and newspapers and libraries in the project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field, excluding the last three digits (i.e. CP21-465). Be sure you have selected an appropriate date range. For assistance, please contact FERC Online Support at FercOnlineSupport@ferc.gov or toll free at (866) 208-3676, or for TTY, contact (202) 502-8659.

The final EIS is not a decision document. It presents Commission staff's independent analysis of the environmental issues for the Commission to consider when addressing the merits of all issues in this proceeding. Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: September 15, 2022.
Kimberly D. Bose,
Secretary.

[FR Doc. 2022-20408 Filed 9-20-22; 8:45 am]

BILLING CODE 6717-01-P